DEPARTMENT OF ENERGY

Federal Energy Regulatory Commission

[Project No. 13160-002]

Red River Hydro LLC; Notice of Application Tendered For Filing With the Commission and Establishing Procedural Schedule for Licensing and Deadline for Submission of Final Amendments

Take notice that the following hydroelectric application has been filed with the Commission and is available for public inspection.

a. Type of Application: New Major License.

b. Project No.: 13160-002.

c. Date Filed: July 29, 2011.

d. Applicant: Red River Hydro LLC (Red River), a wholly-owned subsidiary of Symbiotics LLC.

e. Name of Project: Overton Lock and Dam Hydroelectric Project.

f. Location: The project would be located on the Red River in Rapides Parish, Louisiana at an existing lock and dam owned and operated by the U.S. Corps of Engineers (Corps). The project would occupy 42.5 acres of federal lands managed by the Corps.

g. Filed Pursuant to: Federal Power Act, 16 USC 791(a)-825(r).

h. Applicant Contact: Mr. Brent L. Smith, Chief Operating Officer, Symbiotics LLC 371 Upper Terrace, Suite 2, Bend, OR 97702; Telephone (541)-330-8779.

i. FERC Contact: Lesley Kordella, (202) 502-6406 or Lesley.Kordella@ferc.gov.

j. This application is not ready for environmental analysis at this time.

k. The Project Description: The project would be located at an existing lock and dam owned and operated by the Corps-Vicksburg District. The existing lock and dam are part of the J. Bennett Johnston Waterway, which was authorized by Congress in 1968 to stabilize river banks, straighten river bends, and maintain a 9-foot-deep, 200-foot-wide channel for boat traffic. The waterway consists of five locks and dams and a number of cutoffs to shorten the river.

The existing Overton dam is a concrete gravity structure that is 104 feet in height and 914 feet in length. The spillway consists of five 60-foot-wide Tainter gates. The navigation lock is 84 feet wide by 685 feet long. The purpose of the lock and dam system is navigation and not storage. The upper pool above the dam is commonly referred to as “Pool 2”. The Corps maintains the upper pool at an elevation of 64 feet. Pool 2 has a surface area of approximately 3,750 acres and a storage capacity of approximately 67,500 acre-feet.

The proposed Overton Lock and Dam Project would consist of: (1) A powerhouse located on the southwest bank of the river at the existing dam's right abutment; (2) a headrace; (3) a tailrace; (4) a new switchyard; (5) 3.9 miles of 138-kilovolt (kV) above-ground transmission line; (6) three turbine-generator units for a combined installed capacity of 78 megawatts; and (7) appurtenant facilities. The projected annual energy generation would be 255.7 gigawatt hours.

The project would operate in a run-of-release mode utilizing releases from Pool 2 as they are dictated by the Corps, with no proposed change to the Corps' facility operation. In addition, no changes to the reservoir pool elevations or downstream river flows are proposed. The project would generate power using flows between 2,700 cfs (cubic feet per second) and 49,800 cfs. If flows are less than 2,700 cfs, all flow would go through the Corps' gates and the project would then be offline. When flows are greater than 49,800 cfs, the excess flow would be directed through the Corps gates.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis (when FERC approved studies are complete) | October 2011.
Filing of recommendations, preliminary terms and conditions, and fishway prescriptions | December 2011.
Commission issues Non-Draft EA | April 2012.
Comments on EA | May 2012.
Modified terms and conditions | July 2012.

o. Final amendments to the application must be filed with the Commission no later than 30 days from the issuance date of the notice of ready for environmental analysis.

Dated: August 4, 2011.
Kimberly D. Bose,
Secretary.

[FR Doc. 2011-20269 Filed 8-9-11; 8:45 am]

BILLING CODE 6717-01-P